DEPARTMENT OF COMMERCE

Foreign-Trade Zones Board

[Order No. 1071]

Grant of Authority; Establishment of a Foreign-Trade Zone Martinsburg (Berkeley County), West Virginia

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the West Virginia Economic Development Authority (the Grantee), has made application to the Board (FTZ Docket 9-99, filed 2/19/99), requesting the establishment of a foreign-trade zone in the Martinsburg (Berkeley County), West Virginia area, adjacent to the Front Royal, Virginia, Customs port of entry;

Whereas, notice inviting public comment has been given in the Federal Register (64 FR 9473, 2/26/99); and,

Whereas, the Board adopts the findings and recommendations of the examiner's report, and finds that the requirements of the FTZ Act and the Board's regulations are satisfied, and that approval of the application is in the public interest;

Now, therefore, the Board hereby grants to the Grantee the privilege of establishing a foreign-trade zone, designated on the records of the Board as Foreign-Trade Zone No. 240, at the site described in the application, subject to the Act and the Board's regulations, including Section 400.28.

Signed at Washington, DC, this 7th day of February 2000.
Foreign-Trade Zones Board.
William M. Daley,
Secretary of Commerce, Chairman and Executive Officer.

Attest:
Dennis Puccmelli,
Acting Executive Secretary.

[FR Doc. 00-3848 Filed 2-16-00; 8:45 am]

BILLING CODE 3510-DS-P